DEPARTMENT OF HEALTH AND HUMAN SERVICES

Centers for Disease Control and Prevention

Notice of Award of a Single-Source Cooperative Agreement To Fund Public Health Institute of Malawi

AGENCY: Centers for Disease Control and Prevention (CDC), Department of Health and Human Services (HHS).

ACTION: Notice.

SUMMARY: The Centers for Disease Control and Prevention (CDC), located within the Department of Health and Human Services (HHS), announces the award of approximately $1,000,000, for Year 1 funding to the Public Health Institute of Malawi (PHIM). The award will allow PHIM to efficiently execute Malawi's essential public health functions at national and subnational levels and sustain gains achieved for HIV.

DATES: The period for this award will be September 30, 2023, through September 29, 2028. Funding amounts for years 2-5 will be set at continuation.

FOR FURTHER INFORMATION CONTACT: Nellie Wadonda-Kabondo, Center for Global Health, Centers for Disease Control and Prevention, C/O American Embassy, Box 30016, Lilongwe, Telephone: +265882991033, EMail: vzn7@cdc.gov.

SUPPLEMENTARY INFORMATION: The single-source award will enhance national HIV surveillance and response and strengthen the public health infrastructure and capacity to respond to public health threats and events, including infectious disease outbreaks, pandemics, and other public health emergencies.

The Public Health Institute of Malawi (PHIM) is in a unique position to conduct this work, as The Government of Malawi through the Ministry of Health (MOH) established PHIM in November 2012 with a view to creating a center of excellence on public health that contributes towards quality and productive life of all Malawians.

Summary of the Award

Recipient: Public Health Institute of Malawi (PHIM).

Purpose of the Award: The purpose of this award is for PHIM to efficiently execute Malawi's essential public health functions at national and subnational levels and sustain gains achieved for HIV.

Amount of Award: The approximate year 1 funding amount will be $1,000,000 in Federal Fiscal Year (FYY) 2023 funds, subject to the availability of funds. Funding amounts for years 2-5 will be set at continuation.

Non-PEPFAR Funding: This program is authorized under sections 301(a) and 307 of the Public Health Service Act, as amended [42 U.S.C. 241(a) and 2421].

Period of Performance: September 30,2023 through September 29, 2028.

Authority: This program is authorized under Public Law 108-25 (the United States Leadership Against HIV AIDS, Tuberculosis and Malaria Act of 2003).

Dated: March 16, 2023.
Terrance Perry,
Chief Grants Management Officer, Centers for Disease Control and Prevention.

[FR Doc. 2023-05823 Filed 3-21-23; 8:45 am]

BILLING CODE 4163-18-P